DEPARTMENT OF HEALTH AND HUMAN SERVICES

Health Resources and Services Administration

National Advisory Committee on Rural Health and Human Services; Notice of Meeting

In accordance with section 10(a)(2) of the Federal Advisory Committee Act (Pub. L. 92-463), notice is hereby given that the following committee will convene its fifty-ninth meeting.

Name: National Advisory Committee on Rural Health and Human Services.

Dates and Times: September 24, 2008, 9 a.m.-4:30 p.m.; September 25, 2008, 8:45 a.m.-5:30 p.m.; September 26, 2008, 8:15 a.m.-10 a.m.

Place: Madden's on Gull Lake, 11266 Pine Beach Peninsula, Brainerd, MN 56401, Phone: 800-642-5363.

Status: The meeting will be open to the public.

Purpose: The National Advisory Committee on Rural Health and Human Services provides advice and recommendations to the Secretary with respect to the delivery, research, development and administration of health and human services in rural areas.

Agenda: Wednesday morning, at 9 a.m., the meeting will be called to order by the Chairperson of the Committee, the Honorable David Beasley. The first presentation will be an overview of rural Minnesota. The Committee will hear presentations on the three chosen Subcommittee topics. The first panel will focus on Workforce and Community Development. Jay Fonkert, with the Minnesota Office of Rural Health and Primary Care, and Valerie DeFor, Director of the Healthcare Education Industry Partnership, are confirmed speakers. The second panel of speakers will lead a discussion on Serving At-Risk Children with a representative from the Minnesota Early Childhood Comprehensive System. The final panel for the day is on the Medical Home Model, with Scott Leitz, Assistant Commissioner of the Minnesota Department of Health, as a confirmed speaker. After the panel discussions, the Committee Chair will give an overview of the site visits. The Wednesday meeting will close at 4:30 p.m.

Tuesday morning, at 8:45 a.m., the Committee will break into Subcommittees and depart to the site visits. The Workforce and Community Development Subcommittee will learn about the Bridges to Excellence Program and a cross-training program for paramedics in Crosby, Minnesota. The Serving At-Risk Children Subcommittee will learn about child welfare, family support and prevention initiatives in rural Minnesota. The Medical Home Subcommittee will visit a medical home model at Lakewood Health System in Staples, Minnesota. Transportation to the site visits will not be provided to the public. At 4 p.m. the Subcommittees will arrive back at Madden's on Gull Lake for Subcommittee meetings. The Committee as a whole will reconvene at 4:45 p.m. There will be a review of the site visits and action items will be developed for the Committee members and staff. The meeting will be adjourned at 5:30 p.m.

The final session will be convened on Friday morning, at 8:15 a.m. Those available from the Committee will meet to discuss topic ideas for the next report. The Friday meeting will adjourn at 10 a.m.

For Further Information Contact: Anyone requiring information regarding the Committee should contact Jennifer Chang, MPH, Executive Secretary, National Advisory Committee on Rural Health and Human Services, Health Resources and Services Administration, Parklawn Building, Room 9A-55, 5600 Fishers Lane, Rockville, MD 20857, Telephone (301) 443-0835, Fax (301) 443-2803.

Persons interested in attending any portion of the meeting should contact Michele Pray-Gibson, Office of Rural Health Policy (ORHP), Telephone: (301) 443-0835. The Committee meeting agenda will be posted on ORHP(s Web site: http://www.ruralhealth.hrsa.gov.

Dated: July 29, 2008.
Alexandra Huttinger,
Director, Division of Policy Review and Coordination.

[FR Doc. E8-17850 Filed 8-4-08; 8:45 am]

BILLING CODE 4165-15-P